DEPARTMENT OF TRANSPORTATION

Office of the Secretary

[Docket No. DOT-OST-2009-0092]

Information Collection Activity: Request for Comments

AGENCY: Office of the Secretary, DOT.

ACTION: Notice and requests for comments.

SUMMARY: In accordance with the Paperwork Reduction Act of 1995, this notice announces that the Information Collection Request (ICR) abstracted below is being forwarded to the Office of Management and Budget (OMB) for an extension of a currently approved collection. The Federal Register Notice with a 60-day comment period soliciting comments was published on June 12, 2009, [FR Vol. 74, No.112, page 28090]. No comments were received.

DATES: Comments on this notice must be received by September 21, 2009: DOT/OST Desk Officer, Office of Information and Regulatory Affairs, Office of Management and Budget, Docket Library, Room 10102, 725 17th Street, NW., Washington, DC 20503.

FOR FURTHER INFORMATION CONTACT: Deborah Perkins, Departmental Office of Human Resources, Office of the Secretary, U.S. Department of Transportation, 1200 New Jersey Avenue, SE., Washington, DC 20590, (202) 366-9447.

SUPPLEMENTARY INFORMATION:

Title: Applicant Background Questionnaire.

OMB Control Number: 2105-0557.

OST Form Number: OST F 3300.18.

Abstract: The purpose of the collection is to standardize the collection of race, ethnicity, sex, national origin, and disability status from applicants for positions within all DOT Operating Administrations. This information will assist the DOT in monitoring programs and will be the basis for several different reports required by statute.

Affected Public: Employees upon initial hire and applicants for positions.

Estimated Number of Respondents: 93,000.

Estimated Number of Responses: 93,000.

Annual Estimated Burden Hours: 4650 hours.

Frequency of Collection: Once.

Comments are invited on: (a) Whether the proposed collection of information is necessary for the proper performance of the functions of the Department, including whether the information will have practical utility as described; (b) the accuracy of the Department's estimate of burden of the proposed collection of information, including the validity of methodology and assumptions used; (c) ways to enhance the quality, utility, and clarity of the information to be collected; and (d) ways to minimize the burden of the collection of information on those who are to respond, including the use of appropriate, automated, electronic, mechanical or other technology. Comments should be addressed to the address in the preamble. All responses to this notice will be summarized and included in the request for Office of Management and Budget (OMB) approval. All comments will also become a matter of public record.

Issued in Washington, DC on August 12, 2009.
Patricia Lawton,
DOT Paperwork Reduction Act Clearance Officer, Office of Chief Information Officer.

[FR Doc. E9-20131 Filed 8-20-09; 8:45 am]

BILLING CODE 4910-9X-P